DEPARTMENT OF THE INTERIOR

Fish and Wildlife Service

[FWS-R1-R-2008-N0207; 1265000010137-S3]

James Campbell and Pearl Harbor National Wildlife Refuges, Oahu, HI

AGENCY: Fish and Wildlife Service, Interior.

ACTION: Notice of intent to prepare a comprehensive conservation plan and environmental assessment; announcement of public open house meetings; and request for comments.

SUMMARY: We, the U.S. Fish and Wildlife Service (Service), intend to prepare a comprehensive conservation plan (CCP) for the James Campbell and Pearl Harbor National Wildlife Refuges (refuges). We will also prepare an environmental assessment (EA) to evaluate the effects of various CCP alternatives. This notice also announces two public open house meetings; see SUPPLEMENTARY INFORMATION for the details. Both refuges are located on the island of O`ahu, HI. We furnish this notice in compliance with CCP policy to advise other agencies and the public of our intentions, and to obtain suggestions and information on the scope of issues to consider in the planning process.

DATES: Please provide written comments by January 15, 2009. We will hold two public open house meetings to begin the CCP planning process; see SUPPLEMENTARY INFORMATION for date, time, and location.

ADDRESSES: Send your written comments or requests for more information by any of the following methods.

U.S. Mail: Sylvia Pelizza, Refuge Manager, O`ahu National Wildlife Refuge Complex, 66-590 Kamehameha Highway, Hale'iwa, HI 96712.

Fax: (808) 637-3578.

E-mail: FW1PlanningComments@fws.gov. Include “James Campbell and Pearl Harbor Refuges” in the subject line of the message.

FOR FURTHER INFORMATION CONTACT: Sylvia Pelizza, Refuge Manager, phone (808) 637-6330.

SUPPLEMENTARY INFORMATION: With this notice, we initiate the CCP planning process for the James Campbell and Pearl Harbor Refuges located on the island of Oahu, HI.

Background

The CCP Planning Process

The National Wildlife Refuge System Administration Act of 1966 (Refuge Administration Act), as amended by the National Wildlife Refuge System Improvement Act of 1997 (16 U.S.C. 668dd-668ee), requires us to develop a CCP for each national wildlife refuge. The purpose of developing a CCP is to provide a refuge manager a 15-year plan for achieving refuge purposes, and contributing toward the mission of the National Wildlife Refuge System consistent with sound principles of fish and wildlife management, conservation, legal mandates, and Service policies.

In addition to outlining broad management direction for conserving wildlife and habitats, CCPs identify wildlife-dependent recreational opportunities compatible with each refuge's establishing purposes and the mission of the National Wildlife Refuge System, including opportunities for hunting, fishing, wildlife observation, wildlife photography, and environmental education and interpretation.

The Service will prepare an EA to evaluate the environmental effects of CCP alternatives in accordance with the National Environmental Policy Act (NEPA) of 1969, as amended (42 U.S.C. 4321 et seq. ); NEPA Regulations (40 CFR parts 1500-1508); other Federal laws and regulations; and our policies and procedures for compliance with those laws and regulations.

Each unit of the National Wildlife Refuge System is established for specific purposes. We use a refuge's purposes to develop and prioritize its management goals and objectives within the National Wildlife Refuge System's mission. The CCP planning process provides opportunities for the public to participate in evaluating our management goals and objectives for conserving important wildlife habitat while providing for wildlife-dependent recreation opportunities that are compatible with a refuge's establishing purposes and the mission of the National Wildlife Refuge System.

Public Involvement

We will conduct the CCP planning process for the refuges in a manner that will provide participation opportunities for the public; other Federal, State, and local government agencies; Native Hawaiian organizations; and other interested parties. We request your input regarding issues, concerns, ideas, and suggestions important to you and the future management of the James Campbell and Pearl Harbor Refuges.

An Overview of the Refuges

The James Campbell and Pearl Harbor Refuges are part of the larger O`ahu National Wildlife Refuge Complex. Both refuges encompass two or more units. A brief summary of each refuge and their units, and the habitat each unit contains, follows.

James Campbell Refuge

The James Campbell Refuge is located near O`ahu's North Shore, the northern most point on the island, it contains two wetland units, the Ki'i and Punamanō Units. It was established in 1976 for the purpose of providing habitat for Hawai'i's four endangered waterbirds, the Hawaiian stilt, Hawaiian coot, Hawaiian moorhen, and Hawaiian duck.

The Ki`i Unit is a 126-acre remnant of a much larger historic marsh system, and the 134-acre Punaman̄o Unit is a natural spring-fed marsh. Both units are managed to protect and provide habitat for Hawaii's endangered waterbirds. Habitats found on these units include open water, freshwater marsh, mudflat, grassland, and shrubland.

The James Campbell Expansion Act of 2005 (Pub. L. 109-225), expanded the refuge's boundary to approximately 1,100 acres, incorporating additional wetland acreage, and the last remaining intact coastal dune system on O`ahu. The purpose of this expansion is to: Permanently protect an ecologically intact unit; provide habitat for migratory shorebirds, waterfowl, seabirds, endangered and native plant species, endangered Hawaiian monk seals, and green turtles; allow increased wildlife-dependent public uses; and assist with reducing flood damage to the refuge and local community.

The James Campbell Refuge contains one of the largest concentrations of wetland birds in Hawai`i. It is an important breeding, feeding, and resting area for the Hawaiian stilt, Hawaiian coot, and Hawaiian moorhen. The Hawaiian duck is also found here. In addition, the refuge supports significant numbers of migrating and wintering bristle-thighed curlews. The refuge provides a strategic landfall for migratory birds coming from Alaska, Siberia, and Asia. It also supports a substantial variety of migratory waterfowl, shorebirds, and other wetland birds. Although these migratory populations are small by continental standards, they represent some of the largest concentrations in Hawai`i and the Pacific Ocean. A total of 117 bird species has been documented on the refuge. The refuge is closed to general public access, however, guided tours and grade school educational programs are periodically offered.

Pearl Harbor Refuge

The Pearl Harbor Refuge is located on the southern coast of the island of O`ahu and encompasses three units. Two wetland units, Honouliuli and Waiawa, are located on the shores of Pearl Harbor. The Kalaeloa Unit is a coastal upland unit located on O`ahu’s southwestern point, on a portion of the decommissioned Barbers Point Naval Air Station.

All units were established to protect and provide habitat for endangered species. The 37-acre Honouliuli Unit and the 25-acre Waiawa Unit were established in 1972 as mitigation for construction of the Honolulu International Airport's Reef Runway, to protect and enhance habitat for endangered Hawaiian waterbirds. In addition, these refuge units support a variety of migratory waterfowl, shorebirds, and other wetland birds. Although small by continental standards, these units contain some of the largest concentrations of wetland birds found in Hawai`i and the Pacific Ocean.

The 38-acre Kalaeloa Unit was transferred in fee title to the Service from the U.S. Navy in 2001, to protect and enhance habitat for the endangered 'Ewa hinahina plant. This unit contains the largest remnant stand of 'Ewa hinahina, and a reintroduced population of the endangered 'akoko plant. The Kalaeloa Unit also contains a unique microhabitat called anchialine pools or sinkholes which support unique insects, plants, and animals including two imperiled species of native shrimp.

Preliminary Issues, Concerns, and Opportunities

We have identified preliminary issues, concerns, and opportunities that we may address in the CCP, including—methods for protecting the refuges' resources for the long term while providing high quality opportunities for wildlife-dependent recreation; wildlife and habitat management; inholdings acquisition; visitor services management; historic and cultural resources protection; floodwater management; and facilities maintenance. During public scoping we may identify additional issues.

Public Open House Meetings

Two public open house meetings will be held to provide information on the CCP and receive public comments. Opportunities for additional public input will be announced throughout the planning process. Details on the upcoming public meetings follow.

1. December 9, 2008, 6:30 p.m. to 8:30 p.m., Leeward Community College, 96-045 Ala Ike, General Technology Bldg., Room 105, Pearl City, HI.

2. December 11, 2008, 6:30 p.m. to 8:30 p.m., Kahuku Community Center, 56-576 Kamehameha Highway, Kahuku, HI.

Public Availability of Comments

Before including your address, phone number, or other personal identifying information in your comment, you should be aware that your entire comment—including your personal identifying information—may be made publicly available at any time. While you can ask us in your comments to withhold your personal identifying information from public review, we cannot guarantee that we will be able to do so.

We will make all comments part of the official public record. We will handle requests for such comments in accordance with the Freedom of Information Act, NEPA, and Service and Departmental policies and procedures.

Dated: November 24, 2008.
David J. Wesley,
Acting Regional Director, Region 1, Portland, Oregon.

[FR Doc. E8-28416 Filed 11-28-08; 8:45 am]

BILLING CODE 4310-55-P